DEPARTMENT OF HEALTH AND HUMAN SERVICES

Centers for Disease Control and Prevention

National Center for Injury Prevention and Control Initial Review Group: Notice of Charter Renewal

This gives notice under the Federal Advisory Committee Act (Pub. L. 92-463) of October 6, 1972, that the National Center for Injury Prevention and Control Initial Review Group, Department of Health and Human Services, has been renewed for a 2-year period through August 20, 2011.

For information, contact Dr. Richard Waxweiler, Executive Secretary, National Center for Injury Prevention and Control Initial Review Group, Department of Health and Human Services, 1600 Clifton Road, M/S F63, Atlanta, Georgia 30341, telephone 770/488-4850, or fax 770/488-4422.

The Director, Management Analysis and Services Office, has been delegated the authority to sign Federal Register notices pertaining to announcements of meetings and other committee management activities, for both the Centers for Disease Control and Prevention and the Agency for Toxic Substances and Disease Registry.

Dated: September 4, 2009.
Elaine L. Baker,
Director, Management Analysis and Services Office, Centers for Disease Control and Prevention.

[FR Doc. E9-22140 Filed 9-14-09; 8:45 am]

BILLING CODE 4163-18-P